DEPARTMENT OF COMMERCE

National Oceanic and Atmospheric Administration

Correction: Compliance of National Marine Fisheries Service Permits With the Debt Collection Improvement Act of 1996

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

SUPPLEMENTARY INFORMATION: All NOAA National Marine Fisheries Service (NMFS) permit forms not already requiring Tax Identifying Numbers (Employer ID Number and/or Social Security Number) and Date of Incorporation and/or Date of Birth) will be revised to require this information, following procedures as laid out by the Paperwork Reduction Act. This notice applies to all NMFS permits information collections for which rulemaking is not needed in conjunction with such revisions. Proposed rules will be issued for all collections whose regulations require amendment for such revisions.

In addition to the notice published on June 6, 2007, this action applies to the following NOAA NMFS permit collections: OMB Control Numbers:

1. 0648-0240, Application to Shuck Surf Clams/Ocean Quahogs at Sea.

2. 0648-0345, Southeast Region Bycatch Reduction Device Certification Family of Forms.

The sentence following the original list should now read “All but five of these seventeen permit collections currently require some or most of this information.”

DATES: The original deadline for public comment remains the same (August 6, 2007).

ADDRESS: Direct all written comments to Diana Hynek, Departmental Paperwork Clearance Officer, Department of Commerce, Room 6625, 14th and Constitution Avenue, NW., Washington, DC 20230 (or via the Internet at dHynek@doc.gov).

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of these information collections; they also will become a matter of public record.

Dated: July 26, 2007.
Gwellnar Banks,
Management Analyst, Office of the Chief Information Officer.

[FR Doc. E7-14846 Filed 7-31-07; 8:45 am]

BILLING CODE 3510-22-P